DEPARTMENT OF COMMERCE

International Trade Administration

Amended Trade Mission Application Deadline to the U.S. Environmental Technologies Business Development Mission to IFAT

AGENCY: International Trade Administration, Department of Commerce.

ACTION: Notice.

SUMMARY: The U. S. Department of Commerce, International Trade Administration (ITA), is organizing a U.S. Environmental Technologies Business Development Mission to IFAT (Internationale Fachausstellung fuer Abwasser Technologie) an environmental technologies trade show in Munich, Germany, from May 13-15, 2024, with an optional program to the Czech Republic and Slovakia from May 8-10, 2024. This notice is to update the prior Federal Register notice to reflect that the application deadline is now extended to January 31, 2024.

FOR FURTHER INFORMATION CONTACT: Jeffrey Odum, Global Trade Programs, International Trade Administration, U.S. Department of Commerce, 1401 Constitution Avenue NW, Washington DC 20230; telephone (202) 482-6397 or email Jeffrey.Odum@trade.gov.

SUPPLEMENTARY INFORMATION: Amendment to Revise the Trade Mission Deadline for Submitting Applications.

Background

U.S. Environmental Technologies Business Development Mission to IFAT

The International Trade Administration has determined that to allow for optimal execution of recruitment, the application deadline has been extended from January 12, 2024, to January 31, 2024. Applications may be accepted after that date if space remains and scheduling constraints permit. Interested U.S. companies and trade associations/organizations that have not already submitted an application are encouraged to do so. The U.S. Department of Commerce will review applications and make selection decisions on a rolling basis in accordance with the 88 FR 69901 (October 10, 2023). The applicants selected will be notified as soon as possible.

Contact

Megan Hyndman, Team Lead, Climate and Environmental Technologies, Office of Energy and Environmental Industries, Phone: +1-823-1839, Email: Megan.Hyndman@trade.gov

Elizabeth Laxague, Global Environmental Technologies Team Leader, U.S. Commercial Service—Seattle, Phone: +1-206-406-8903, Email: Elizabeth.Laxague@trade.gov

Sean Timmins, Principal Commercial Officer, U.S. Consulate in Munich—Germany, Phone: +49-151-6772-6689, Email: Sean.Timmins@trade.gov

Richard Pales, Commercial Assistant, U.S. Embassy in Prague—Czech Republic, Phone: +420-257-022-397, Email: Richard.Pales@trade.gov

Marian Volent, Head of U.S. Commercial Section, U.S. Embassy in Bratislava—Slovakia, Phone: +421-2-5922-5310, Email: Marian.Volent@trade.gov

Donald Calvert, Desk Officer, Germany, Office of Central & Southeast Europe, Phone: (202) 482-9128, Email: Donald.Calvert@trade.gov

Marie Geiger, Desk Officer, Czechia/Slovakia, Office of Central & Southeast Europe, Phone: (202) 482-6418, Email: Marie.Geiger@trade.gov

Gemal Brangman,
Director, Global Trade Programs.

[FR Doc. 2024-01298 Filed 1-23-24; 8:45 am]

BILLING CODE 3510-DR-P